NATIONAL CREDIT UNION ADMINISTRATION

Sunshine Act Meeting

The National Credit Union Administration Board determined that its business required the deletion of the following two items from the previously announced closed meeting (Federal Register, Vol. 65, No. 173, page 54078, Wednesday, September 6, 2000) scheduled for Thursday, September 7, 2000.

1. Administrative Action under Section 206 of the Federal Credit Union Act. Closed pursuant to exemptions (8), (9)(A)(ii) and (9)(B).

The Board voted two-to-one, Board Member Wheat voting no, that agency business required that this item be deleted from the closed agenda and that no earlier announcement of this change was possible.

3. Field of Membership Appeal. Closed pursuant to exemptions (8) and (9)(A)(ii).

The Board voted unanimously that agency business required that this item be deleted from the closed agenda and that no earlier announcement of this change was possible.

The previously announced closed items were:

1. Administrative Action under Section 206 of the Federal Credit Union Act. Closed pursuant to exemptions (8), (9)(A)(ii) and (9)(B).

2. Two (2) Administrative Actions under Part 704 of NCUA's Rules and Regulations. Closed pursuant to exemption (8).

3. Field of Membership Appeal. Closed pursuant to exemptions (8) and (9)(A)(ii).

4. Three (3) Personnel Matters. Closed pursuant to exemptions (2) and (6).

FOR FURTHER INFORMATION CONTACT: Becky Baker, Secretary of the Board, Telephone (703) 518-6304.

Becky Baker,
Secretary of the Board.

[FR Doc. 00-23459 Filed 9-7-00; 5:08 pm]

BILLING CODE 7535-01-M